FEDERAL COMMUNICATIONS COMMISSION

47 CFR Parts 73 and 74

[MB Docket No. 03-185; FCC 13-126]

Establish Rules for Digital Low Power Television, Television Translator, and Television Booster Stations and To Amend Rules for Digital Class A Television Stations

AGENCY: Federal Communications Commission.

ACTION: Final rule; denial of petitions for reconsideration.

SUMMARY: In this document, the Federal Communications Commission (“Commission”) denies eight petitions for reconsideration of a Second Report and Order in this proceeding adopting final rules to ensure a timely and successful completion of the low power television digital transition.

DATES: Effective March 6, 2014.

FOR FURTHER INFORMATION CONTACT: Shaun A. Maher, Shaun.Maher@fcc.gov, Video Division, Media Bureau, (202) 418-2324.

SUPPLEMENTARY INFORMATION: This is a synopsis of the Commission's Memorandum Opinion and Order, FCC 13-126, MB Docket No. 03-185, adopted September 26, 2013, and released September 27, 2013. The full text of this document is available for inspection and copying during normal business hours in the FCC Reference Information Center (Room CY-A257), 445 12th Street SW., Washington, DC 20554. The complete text of this document may also be purchased from the Commission's copy contractor, Best Copy and Printing, Inc., Portals II, 445 12th Street SW., Room CY-B402, Washington, DC 20554, telephone 1-800-378-3160 or www.BCPIWEB.com.

In the Second Report and Order, 26 FCC Rcd 10732 (2011) in this proceeding, the Commission adopted final rules to ensure the timely and successful completion of the low power television digital transition. Eight parties filed petitions for reconsideration of the Second Report and Order. In the Memorandum Opinion and Order, the Commission granted two petitions to the extent that they each seek clarification of the Second Report and Order and otherwise denied those filings and dismissed or denied, as appropriate, the remaining six petitions for reconsideration.

The Commission denied Signal Above, LLC's request to extend the September 1, 2015 transition date finding that it had previously considered and rejected Signal's arguments in the Second Report and Order.

The Commission denied the National Translator Associations request to reconsideration the December 31, 2011 “out of core” transition date finding that it had already considered and rejected NTA's arguments in the Second Report and Order.

The Commission denied the law firm of Cohn and Marks's and One Ministries' requests to extend the expiration date for all construction permits for new digital low power television stations, finding that the Commission did not contemplate in this proceeding nor did it seek comment on whether to change the existing three-year construction period for new digital LPTV stations and that One Ministries failed to propose the change to the Commission's rules during the comment stage of the proceeding.

The Commission granted in part and otherwise denied the petitions for clarification and reconsideration of National Public Radio and Hammett & Edison and clarified that, regardless of their power level, low power television stations may not cause interference to a primary service such as noncommercial educational FM radio stations.

This document is not subject to the Congressional Review Act. (The Commission, is, therefore, not required to submit a copy of the Memorandum Opinion and Order to GAO, pursuant to the Congressional Review Act, see 5 U.S.C. 801(a)(1)(A) because the petitions for reconsideration were denied).

Federal Communications Commission.
Marlene H. Dortch,
Secretary.

[FR Doc. 2014-03465 Filed 3-5-14; 8:45 am]

BILLING CODE 6712-01-P